ENVIRONMENTAL PROTECTION AGENCY

40 CFR Part 52

[EPA-R10-OAR-2011-0715, FRL-9909-54-Region-10]

Approval and Promulgation of Implementation Plans; Idaho: Infrastructure Requirements for the 1997 and 2006 Fine Particulate Matter and 2008 Ozone National Ambient Air Quality Standards; Correction

AGENCY: Environmental Protection Agency (EPA).

ACTION: Proposed rule; correction.

SUMMARY: On March 26, 2014, the EPA published a proposed rule finding that the Idaho State Implementation Plan (SIP) meets the infrastructure requirements of the Clean Air Act (CAA) for the National Ambient Air Quality Standards (NAAQS) promulgated for fine particulate matter (PM2.5) on July 18, 1997 and October 17, 2006, and for ozone on March 12, 2008, in addition to the interstate transport requirements of the CAA related to prevention of significant deterioration and visibility for the 2006 PM2.5 and 2008 ozone NAAQS. In that publication, we supplied an incorrect docket number for commenters to use when they send us comments. The correct docket number is EPA-R10-OAR-2011-0715. If commenters have already submitted comments, they need not resubmit them, because they will be routed to the correct docket.

DATES: Comments must be received on or before April 25, 2014.

ADDRESSES: Submit your comments, identified by Docket ID No. EPA-R10-OAR-2011-0715, by any of the following methods:

• www.regulations.gov: Follow the on-line instructions for submitting comments.

• Email: R10-Public_Comments@epa.gov.

• Mail: Kristin Hall, EPA Region 10, Office of Air, Waste and Toxics (AWT-107), 1200 Sixth Avenue, Suite 900, Seattle WA, 98101.

• Hand Delivery/Courier:

List of Subjects

EPA Region 10 Mailroom, 9th floor, 1200 Sixth Avenue, Suite 900, Seattle WA, 98101. Attention: Kristin Hall, Office of Air, Waste and Toxics, AWT—107. Such deliveries are only accepted during normal hours of operation, and special arrangements should be made for deliveries of boxed information.

Instructions: Direct your comments to Docket ID No. EPA-R10-OAR-2011-0715. The EPA's policy is that all comments received will be included in the public docket without change and may be made available online at www.regulations.gov, including any personal information provided, unless the comment includes information claimed to be Confidential Business Information (CBI) or other information the disclosure of which is restricted by statute. Do not submit information that you consider to be CBI or otherwise protected through www.regulations.gov or email. The www.regulations.gov Web site is an “anonymous access” system, which means the EPA will not know your identity or contact information unless you provide it in the body of your comment. If you send an email comment directly to the EPA without going through www.regulations.gov your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses.

Docket: All documents in the docket are listed in the www.regulations.gov index. Although listed in the index, some information is not publicly available, e.g., CBI or other information the disclosure of which is restricted by statute. Certain other material, such as copyrighted material, is not placed on the Internet and will be publicly available only in hard copy. Publicly available docket materials are available either electronically in www.regulations.gov or in hard copy during normal business hours at the Office of Air, Waste and Toxics, EPA Region 10, 1200 Sixth Avenue, Seattle WA, 98101.

FOR FURTHER INFORMATION CONTACT: Kristin Hall at (206) 553-6357, hall.kristin@epa.gov.

SUPPLEMENTARY INFORMATION:

Correction

On March 26, 2014 (79 FR 16711), we, the EPA, published a proposed rule finding that the Idaho SIP meets the infrastructure requirements of the CAA for the 1997 PM2.5, 2006 PM2.5, and 2008 ozone NAAQS, in addition to the interstate transport requirements of the CAA related to prevention of significant deterioration and visibility for the 2006 PM2.5 and 2008 ozone NAAQS. In that publication, we supplied an incorrect docket number for commenters to use when they submit comments. We are publishing this notice to clarify that the correct docket number is EPA-R10-OAR-2011-0715. However, if you already submitted a comment, you need not resubmit it, because it will be routed to the correct docket. For details on the proposed rule, please see our original Federal Register publication at 79 FR 16711.

Dated: March 28, 2014.
Michelle Pirzadeh,
Acting Regional Administrator, Region 10.

[FR Doc. 2014-08499 Filed 4-14-14; 8:45 am]

BILLING CODE 6560-50-P